DEPARTMENT OF AGRICULTURE

Food Safety and Inspection Service

[Docket No. FSIS-2015-0013]

Codex Alimentarius Commission: Meeting of the Codex Committee on Spices and Culinary Herbs

AGENCY: Office of the Under Secretary for Food Safety, USDA.

ACTION: Notice of public meeting and request for comments.

SUMMARY: The Office of the Under Secretary for Food Safety, U.S. Department of Agriculture (USDA) and the Agricultural Marketing Service (AMS), are holding a public meeting on August 19, 2015. The purpose of the meeting is to provide information and receive public comments on agenda items and draft United States (U.S.) positions that will be discussed at the 2nd Session of the Codex Committee on Spices and Culinary Herbs (CCSCH) of the Codex Alimentarius Commission (Codex). The Session will be held in Goa, India, September 14-18, 2015. The Deputy Under Secretary for Food Safety recognizes the importance of providing interested parties the opportunity to obtain background information on the 2nd Session of CCSCH and to address items on the agenda.

DATES: The public meeting is scheduled for Wednesday, August 19, 2015 from 1:00-4:00 p.m.

ADDRESSES: The public meeting will take place at the United States Department of Agriculture (USDA), Jamie L. Whitten Building, Room 107-A, 1400 Independence Avenue SW., Washington, DC 20250. Documents related to the 2nd Session of CCSCH will be accessible via the Internet at the following address: http://www.codexalimentarius.org/meetings-reports/en/.

The U.S. Delegate of the 2nd Session of the CCSCH invites U.S. interested parties to send their comments electronically to the following email address: Dorian.Lafond@ams.usda.gov.

Call-In Number

If you wish to participate in the public meeting for the 2nd Session of the CCSCH by conference call, please use the call-in number and participant code listed below:

Call-in Number: 1-888-844-9904.

The participant code will be posted on the Web page below: http://www.fsis.usda.gov/wps/portal/fsis/topics/international-affairs/us-codex-alimentarius/public-meetings.

Registration

Attendees may register to attend the public meeting by emailing kenneth.lowery@fsis.usda.gov by August 17, 2015. Early registration is encouraged because it will expedite entry into the building. The meeting will be held in a Federal building. Attendees should also bring photo identification and plan for adequate time to pass through security screening systems. Attendees who are not able to attend the meeting in person, but who wish to participate, may do so by phone.

For Further Information About the 2nd Session of CCSCH Contact: Dorian LaFond, Agricultural Marketing Service, Fruits and Vegetables Division, Stop 0235-Room 2086, United States Department of Agriculture, 1400 Independence Avenue SW., Washington, DC 20250. Phone: (202) 690-4944, Fax: (202) 720-0016, email: dorian.lafond@usda.gov.

For Further Information about the Public Meeting Contact: Kenneth Lowery, U.S. Codex Office, 1400 Independence Avenue SW., Room 4861, Washington, DC 20250. Phone: (202) 690-4042, Fax: (202) 720-3157, email: Kenneth.Lowery@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCSCH is responsible for elaborating worldwide standards for spices and culinary herbs in their dried and dehydrated state in whole, ground, and cracked or crushed form. The CCSCH consults as necessary with other international organizations in the standards development process to avoid duplication.

The CCSCH is hosted by India.

Issues To Be Discussed at the Public Meeting

The following items on the Agenda for the 2nd Session of CCSCH will be discussed during the public meeting:

• Matters Referred by the Codex and other Codex Committees and Task Forces.

• Activities of International Organizations relevant to the work of CCSCH.

• Proposed Draft Standard for Black, White, and Green Pepper.

• Proposed Draft Standard for Cumin.

• Proposed Draft Standard for Oregano.

• Proposed Draft Standard for Thyme.

• Discussion paper on grouping of spices and culinary herbs.

• Proposal for new work.

• Other Business and Future Work.

Each issue listed will be fully described in documents distributed, or to be distributed, by the Secretariat before the Meeting. Members of the public may access or request copies of these documents (see ADDRESSES).

Public Meeting

At the August 19, 2015, public meeting, draft U.S. positions on the agenda items will be described and discussed. Attendees will have the opportunity to pose questions and offer comments. Written comments may be offered at the meeting or sent to the U.S. Delegates for the 2nd Session of CCSCH,(see ADDRESSES). Written comments should state that they relate to activities of the 2nd Session of CCSCH.

Public awareness of all segments of rulemaking and policy development is important. Consequently, FSIS will announce this Federal Register publication on-line through the FSIS Web page located at: http://www.fsis.usda.gov/federal-register.

Additional Public Notification

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email.

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on June 11, 2012.
Mary Frances Lowe,
U.S. Manager for Codex Alimentarius.

[FR Doc. 2015-14841 Filed 6-16-15; 8:45 am]

BILLING CODE 3410-DM-P